DEPARTMENT OF THE INTERIOR

Bureau of Indian Affairs

[178A2100DD/AAKC001030/A0A501010.999900 253G]

Advisory Board for Exceptional Children

AGENCY: Bureau of Indian Affairs, Interior.

ACTION: Notice of meeting.

SUMMARY: The Bureau of Indian Education (BIE) is announcing a public meeting of the Advisory Board for Exceptional Children in order to meet the mandates of the Individuals with Disabilities Education Act of 2004 (IDEA) for Indian children with disabilities.

DATES: The Advisory Board will hold an orientation session for member only on Wednesday, July 25, 2018 from 8:30 a.m. to 11:30 a.m. Mountain Time. The public meeting of the Advisory Board meeting will start Wednesday, July 25, 2018 from 1:00 p.m. to 4:30 p.m. On Thursday, July 26, 2018 and Friday, July 27, 2018 all Advisory Board members will meet in-session from 8:30 a.m. to 4:30 p.m. Mountain Time.

ADDRESSES: The meeting will be held at the 1011 Indian School Rd. NW, Large Conference Room on the 3rd floor in Albuquerque, NM 87104; telephone number (480) 777-7986.

FOR FURTHER INFORMATION CONTACT: Jennifer Davis, Designated Federal Officer, Bureau of Indian Education, 2600 N Central Ave., Suite 800, Phoenix, Arizona 85004, telephone number (480) 777-7986.

SUPPLEMENTARY INFORMATION: The Advisory Board was established under the Individuals with Disabilities Act of 2004 (20 U.S.C. 1400 et seq.) to advise the Secretary of the Interior, through the Assistant Secretary-Indian Affairs, on the needs of Indian children with disabilities. The meetings are open to the public.

The following items will be on the agenda:

• Introduction of Advisory Board members

• Report from Tony Dearman, Director, BIE Director's Office

• Report from Dr. Jeffrey Hamley Associate Deputy Director, BIE, Division of Performance and Accountability (DPA)

• Report from Donald Griffin, Supervisory Education Specialist, BIE, DPA/Special Education

• Board work on Priorities for 2018

• Public Comment (via conference call, Friday, July 27, 2018 meeting only *).

• BIE Advisory Board—Advice and Recommendations

* During the July 27, 2018, meeting, time has been set aside for public comment via conference call from 11:30-12:00 p.m. Mountain Time. The call-in information is: Conference Number 1-888-417-0376, Passcode 1509140.

Interested members of the public may submit relevant information or questions for the Board to consider during the public meeting. Written statements received in advance of the meeting will be made available to the Council for their consideration. Before including your address, phone number, email address, or other personal identifying information in your comment, you should be aware that your entire comment—including your personal identifying information—may be made publicly available at any time. While you can ask us in your comment to withhold your personal identifying information from public review, we cannot guarantee that we will be able to do so. Individuals wishing to make an oral statement during the time reserved for public comment should contact the DFO (see FOR FURTHER INFORMATION CONTACT) before the meeting.

Authority: 5 U.S.C. Appendix 5; 20 U.S.C. 1400 et seq.

Dated: July 5, 2018.
John Tahsuda,
Principal Deputy Assistant Secretary—Indian Affairs, Exercising the Authority of the Assistant Secretary—Indian Affairs.

[FR Doc. 2018-14845 Filed 7-10-18; 8:45 am]

BILLING CODE 4337-15-P